DEPARTMENT OF THE INTERIOR

National Park Service

[NPS-WASO-NAGPRA-15439;PPWOCRADN0-PCU00RP14.R50000]

Notice of Inventory Completion: University of Notre Dame, Notre Dame, IN

AGENCY: National Park Service, Interior.

ACTION: Notice.

SUMMARY: The University of Notre Dame has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Notre Dame. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Notre Dame at the address in this notice by June 16, 2014.

ADDRESSES: Dr. Deb Rotman, Department of Anthropology, University of Notre Dame, 110 Brownson Hall, Notre Dame, IN 46556, telephone (574) 631-7125, email drotman@nd.edu.

SUPPLEMENTARY INFORMATION: Notice is here given in accordance with the Native American Graves Protection and Repatriation Act (NAGPRA), 25 U.S.C. 3003, of the completion of an inventory of human remains under the control of the University of Notre Dame, Notre Dame, IN. The human remains were accidentally discovered during an excavation on Beaver Island, Charlevoix County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Notre Dame professional staff in consultation with representatives of the Michigan Anishinaabek Cultural Preservation and Repatriation Alliance, representing the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan.

History and Description of the Remains

In July 2012, human remains representing, at minimum, two individuals were accidently discovered during an excavation of the 19th century Irish immigrant site of the Dan and Catherine Boyle Farm (20CX204) in Charlevoix, Michigan. The human remains are two teeth and were recovered from two different proveniences (Unit 9, Level 8 and Unit 11, Level 2) and clearly associated with an undisturbed 19th century midden. No known individuals were identified. No associated funerary objects are present.

Determinations Made by the University of Notre Dame

Officials of the University of Notre Dame have determined that:

• Pursuant to 25 U.S.C. 3001(9), the human remains described in this notice are Native American based on the antiquity of the remains.

• Pursuant to 25 U.S.C. 3001(9), the human remains described in this notice represent the physical remains of two individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan.

• Treaties, Acts of Congress, or Executive Orders, indicate that the land from which the Native American human remains were removed is the aboriginal land of the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan.

• Pursuant to 43 CFR 10.11(c)(1), the disposition of the human remains may be to the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan.

Additional Requestors and Disposition

Representatives of any Indian tribe or Native Hawaiian organization not identified in this notice that wish to request transfer of control of these human remains should submit a written request with information in support of the request to Dr. Deb Rotman, Department of Anthropology, University of Notre Dame, 110 Brownson Hall, Notre Dame, IN 46556, telephone (574) 631-7125, email drotman@nd.edu, by June 16, 2014. After that date, if no additional requestors have come forward, transfer of control of the human remains to the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan, may proceed.

The University of Notre Dame is responsible for notifying the Bay Mills Indian Community, Michigan; Grand Traverse Band of Ottawa and Chippewa Indians, Michigan; Little River Band of Ottawa Indians, Michigan; Little Traverse Bay Bands of Odawa Indians, Michigan; and the Sault Ste. Marie Tribe of Chippewa Indians, Michigan that this notice has been published.

Dated: March 31, 2014.
Sherry Hutt,
Manager, National NAGPRA Program.

[FR Doc. 2014-11249 Filed 5-14-14; 8:45 am]

BILLING CODE 4312-50-P